Proclamation 9086 of February 28, 2014

National Consumer Protection Week, 2014

By the President of the United States of America

A Proclamation

The premise that we are all created equal is the opening line in the American story, and while we do not promise equal outcomes, we have always strived to deliver equal opportunity. When everyone gets a fair shot, does their fair share, and plays by the same set of rules, the best ideas rise to the top and our economy thrives. After 6 years of digging out of a historic crisis brought on by widespread abuses in our financial system, it is clearer than ever that we cannot succeed without strong consumer protections. This week, we remember that our Nation's economy is only as strong as its people, and we recommit to fostering a sense of basic fairness in our marketplace.

Since I took office, my Administration has worked tirelessly to expose deceptive mortgage schemes, crack down on abusive debt collection practices, and ensure an irresponsible few cannot hurt consumers by illegally rigging markets for their own gain. We have taken action to prevent credit card companies from hiding fees in intentionally obscure text and given families access to clear, comprehensive information on student loans. We passed the strongest consumer financial protection law in history and created an independent watchdog charged with looking out for the American people in the financial world. And to introduce more choice for those planning for retirement, I launched the myRA program, a new type of savings bond that lets Americans keep the same account, even if they change jobs.

It is also critical that all Americans know their rights and have the tools to weigh the risks and potential benefits of their choices in the open market. In partnership with consumer advocates, my Administration launched www.NCPW.gov, which provides advice on everything from avoiding scams, protecting identities, and staying informed about product recalls to managing debt and making sound financial decisions.

During National Consumer Protection Week, let us recognize the men and women who power the engine of prosperity. Together, let us build an economy that works for everyone, leaves no one behind, and allows every American to pursue their own measure of happiness.

NOW, THEREFORE, I, BARACK OBAMA, President of the United States of America, by virtue of the authority vested in me by the Constitution and the laws of the United States, do hereby proclaim March 2 through March 8, 2014, as National Consumer Protection Week. I call upon government officials, industry leaders, and advocates across the Nation to share information about consumer protection and provide our citizens with information about their rights as consumers.

IN WITNESS WHEREOF, I have hereunto set my hand this twenty-eighth day of February, in the year of our Lord two thousand fourteen, and of the Independence of the United States of America the two hundred and thirty-eighth.

[FR Doc. 2014-05079

Filed 3-6-14; 8:45 am]

Billing code 3295-F4